DEPARTMENT OF COMMERCE

International Trade Administration

[A-570-848]

Freshwater Crawfish Tail Meat From the People's Republic of China: Preliminary Results of Antidumping Duty New Shipper Review; 2017-2018

AGENCY: Enforcement and Compliance, International Trade Administration, Department of Commerce.

SUMMARY: The Department of Commerce (Commerce) preliminarily determines that Nanjing Yinxiangchen International Trade Co., Ltd. (Nanjing Yinxiangchen) did not make sales of subject merchandise at prices below normal value during the period of review (POR), September 1, 2017, through February 28, 2018. We invite interested parties to comment on the preliminary results.

DATES: Applicable April 2, 2019.

FOR FURTHER INFORMATION CONTACT: Hermes Pinilla (202) 482-3477, AD/CVD Operations, Office I, Enforcement and Compliance, International Trade Administration, U.S. Department of Commerce, 1401 Constitution Avenue NW, Washington, DC 20230.

SUPPLEMENTARY INFORMATION:

Background

Commerce is conducting a new shipper review of the antidumping duty order on freshwater crawfish tail meat from the People's Republic of China (China). The new shipper review covers Nanjing Yinxiangchen. Commerce exercised its discretion to toll all deadlines affected by the partial federal government closure from December 22, 2018, through the resumption of operations on January 29, 2019.¹ If the new deadline falls on a non-business day, in accordance with Commerce's practice, the deadline will become the next business day. Accordingly, the revised deadline for the final results of this review is now March 26, 2019.

¹ See Memorandum, “Deadlines Affected by the Partial Shutdown of the Federal Government,” dated January 28, 2019. All deadlines in this segment of the proceeding have been extended by 40 days.

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, Commerce added HTSUS classification number 0306.29.01.00 to the scope description pursuant to a request by U.S. Customs and Border Protection (CBP). On September 21, 2018, Commerce added HTSUS classification numbers 0306.39.0000 and 0306.99.0000 to the scope description pursuant to a request by CBP. While the HTSUS numbers are provided for convenience and customs purposes, the written description is dispositive. A full description of the scope of the order is contained in the Preliminary Decision Memorandum.²

² See Memorandum, “Freshwater Crawfish Tail Meat from the People's Republic of China: Decision Memorandum for the Preliminary Results of the New Shipper Review; 2017-2018,” dated concurrently with, and hereby adopted by, this notice (Preliminary Decision Memorandum).

Separate Rate

Commerce preliminarily determines that Nanjing Yinxiangchen is eligible to receive a separate rate in this review.³

³ See Preliminary Decision Memorandum at 6-8, for more details.

Methodology

Commerce is conducting this review in accordance with section 751(a)(2)(B) of the Tariff Act of 1930, as amended (the Act), and 19 CFR 351.214. Commerce calculated export price in accordance with section 772(c) of the Act. Because China is a non-market economy within the meaning of section 771(18) of the Act, Commerce calculated normal value in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in Commerce's Central Records Unit, Room B8024 of the main Department of Commerce building. In addition, a complete version of the Preliminary Decision Memorandum can be found at http://enforcement.trade.gov/frn/. A list of the topics discussed in the Preliminary Decision Memorandum is attached as an Appendix to this notice.

Preliminary Results of New Shipper Review

As a result of the new shipper review, Commerce preliminarily determines that the following dumping margin exists: ⁴

⁴ Commerce reached this conclusion based on the totality of the circumstances surrounding the reported sale for Nanjing Yinxiangchen. See Preliminary Decision Memorandum at 2-3 Bona Fides Analysis section.

Exporter | Producer | Weighted- average margin (percent)
Nanjing Yinxiangchen International Trade Co. Ltd | Nanjing Yinxiangchen International Trade Co. Ltd | 0.00

Disclosure

We intend to disclose calculations performed in these preliminary results to parties within five days after public announcement of the preliminary results.⁵

⁵ See 19 CFR 351.224(b).

Public Comment

Pursuant to 19 CFR 351.309(c)(ii), interested parties may submit case briefs no later than 30 days after the date of publication of this notice.⁶ Rebuttal briefs, limited to issues raised in the case briefs, may be filed no later than five days after the date for filing case briefs.⁷ Parties who submit case briefs or rebuttal briefs in this proceeding are encouraged to submit with each argument: (1) A statement of the issue; (2) a brief summary of the argument; and (3) a table of authorities.⁸

⁶ See 19 CFR 351.309(c).

⁷ See 19 CFR 351.309(d).

⁸ See 19 CFR 351.309(c)(2) and (d)(2) and 19 CFR 351.303 (for general filing requirements).

Interested parties who wish to request a hearing must submit a written request to the Assistant Secretary for Enforcement and Compliance, U.S. Department of Commerce, filed electronically using ACCESS. An electronically filed document must be received successfully in its entirety by ACCESS by 5:00 p.m. Eastern Time within 30 days after the date of publication of this notice.⁹ Hearing requests should contain: (1) The party's name, address, and telephone number; (2) the number of participants; and (3) a list of issues to be discussed. Issues raised in the hearing will be limited to those raised in the respective case briefs.

⁹ See 19 CFR 351.310(c).

Unless the deadline is extended, Commerce intends to issue the final results of this new shipper review, including the results of its analysis of issues raised by parties in their comments, within 90 days after the publication of these preliminary results, pursuant to section 751(a)(2)(B)(iii) of the Act and 19 CFR 351.214(i)(1).

Assessment Rates

Upon issuing the final results of this new shipper review, Commerce will determine, and U.S. Customs and Border Protection (CBP) shall assess, antidumping duties on all appropriate entries covered by this review.¹⁰ If the respondent's weighted-average dumping margin is above de minimis (i.e., 0.50 percent) in the final results of this review, we will calculate an importer-specific assessment rate on the basis of the ratio of the total amount of dumping calculated for each importer's examined sales and, where possible, the total entered value of sales in accordance with 19 CFR 351.212(b)(1). Specifically, Commerce will apply the assessment rate calculation method adopted in Final Modification for Reviews.¹¹ Where an importer- (or customer-) specific ad valorem rate is zero or de minimis, we will instruct CBP to liquidate appropriate entries without regard to antidumping duties.¹²

¹⁰ See 19 CFR 351.212(b)(1).

¹¹ See Antidumping Proceeding: Calculation of the Weighted-Average Dumping Margin and Assessment Rate in Certain Antidumping Duty Proceedings; Final Modification, 77 FR 8101, 8103 (February 14, 2012) (Final Modification for Reviews).

¹² See 19 CFR 351.106(c)(2).

For entries that were not reported in the U.S. sales database submitted by Nanjing Yinxiangchen examined during this review, Commerce will instruct CBP to liquidate such entries at the China-wide rate.

Cash Deposit Requirements

With regard to Nanjing Yinxiangchen, the respondent in this new shipper review, Commerce established a combination cash deposit rate consistent with its practice, as follows: (1) For subject merchandise produced and exported by Nanjing Yinxiangchen, the cash deposit rate will be the rate established in the final results of this new shipper review; (2) for subject merchandise exported by Nanjing Yinxiangchen but not produced by Nanjing Yinxiangchen the cash deposit rate will be the rate for the China-wide entity; and (3) for subject merchandise produced by Nanjing Yinxiangchen but not exported by Nanjing Yinxiangchen the cash deposit rate will be the rate applicable to the exporter. These deposit requirements shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Commerce is issuing and publishing the preliminary results of this new shipper review in accordance with sections 751(a)(2)(B) and 777(i) of the Act, and 19 CFR 351.214 and 351.221(b)(4).

Dated: March 27, 2019.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Bona Fides Analysis

V. Discussion of the Methodology

A. Non-Market-Economy Country Status

B. Surrogate Country

C. Separate Rate

1. Absence of De Jure Control

2. Absence of De Facto Control

D. Fair Value Comparisons

1. Determination of Comparison Method

2. Results of the Differential Pricing Analysis

E. U.S. Price

F. Date of Sale

G. Normal Value

H. Surrogate Values

VI. Currency Conversion

VII. Recommendation

[FR Doc. 2019-06314 Filed 4-1-19; 8:45 am]

BILLING CODE 3510-DS-P